DEPARTMENT OF ENERGY

Federal Energy Regulatory Commission

[ Docket Nos. CP14-511-000; CP14-347-000]

Kinder Morgan Louisiana Pipeline, LLC; Notice of Intent To Prepare an Environmental Impact Statement for the Proposed Lake Charles Expansion Project and Request for Comments on Environmental Issues

The staff of the Federal Energy Regulatory Commission (FERC or Commission) will discuss the potential environmental effects of the Lake Charles Expansion Project (Project), involving construction and operation of natural gas facilities by Kinder Morgan Louisiana Pipeline, LLC (KMLP), in the Commission's environmental impact statement (EIS) currently under preparation for the Magnolia Liquefied Natural Gas Project (Magnolia LNG Project) in Docket No. CP14-347-000 for Magnolia LNG, LLC (Magnolia). Under the proposed Lake Charles Expansion Project, KMLP would construct and operate approximately 40 feet of 36-inch-diameter pipeline off of KMLP's existing 42-inch-diameter mainline and a meter station to deliver approximately 1,400 thousand cubic feet per day (Mcf/d) of natural gas to the Magnolia Terminal in Calcasieu Parish, Louisiana. KMLP would also construct and operate one compressor station, approximately 6,400 feet of 36-inch-diameter and 700 feet of 24-inch-diameter header pipelines, and modify five existing meter stations to be bi-directional in Acadia and Evangeline Parishes, Louisiana. The additions and changes proposed in the Lake Charles Expansion Project would move gas south to the proposed Magnolia Terminal, resulting in the creation of a new firm north-to-south service path on the existing 42-inch-diameter KMLP mainline.

This notice announces the opening of the scoping process the Commission will use to gather input from the public and interested agencies on KMLP's project. Commission staff previously held a scoping period for the Magnolia LNG Project from June 18, 2013 through July 19, 2013. Magnolia filed an application for its Project on April 30, 2014. Because the Magnolia LNG Project is operationally dependent on the Lake Charles Expansion Project to provide the intended service, and the two projects have similar projected construction and in-service dates, the Commission staff will evaluate the two projects jointly in the EIS. This EIS will be used by the Commission in its decision-making process to determine whether the Magnolia LNG and Lake Charles Expansion Projects are in the public convenience and necessity.

Comments on the Lake Charles Expansion Project may be submitted to the FERC either electronically or by mail. Further details on how to submit comments are provided in the Public Participation section of this notice. Please note that the scoping period for the Lake Charles Expansion Project will close on September 10, 2014.

This notice is being sent to the Commission's current environmental mailing list for both the Magnolia LNG and Lake Charles Expansion Projects. State and local government representatives are asked to notify their constituents of the Lake Charles Expansion Project and encourage them to comment on their areas of concern. This scoping period is established to receive comments on the Lake Charles Expansion Project; comments previously filed with the FERC regarding the Magnolia LNG Project should not be refiled under the Lake Charles Expansion Project docket.

If you are a landowner receiving this notice, a pipeline company representative may contact you about the acquisition of an easement to construct, operate, and maintain the planned facilities. The company would seek to negotiate a mutually acceptable agreement. However, if the Commission approves the Project, that approval conveys with it the right of eminent domain. Therefore, if easement negotiations fail to produce an agreement, the pipeline company could initiate condemnation proceedings where compensation would be determined in accordance with state law.

A fact sheet prepared by the FERC entitled “An Interstate Natural Gas Facility on My Land? What Do I Need To Know?” is available for viewing on the FERC Web site (www.ferc.gov). This fact sheet addresses a number of typically-asked questions, including the use of eminent domain and how to participate in the Commission's proceedings.

Summary of the Lake Charles Expansion Project

KMLP plans to modify, construct, and operate facilities along its existing KMLP mainline in Louisiana to receive, as well as continue to deliver, natural gas to existing meter stations, as well as provide about 1,400 Mcf/d of natural gas transportation service to a new meter station at the Magnolia LNG Terminal site.

The Lake Charles Expansion Project consists of the following components:

• Construction of a new meter station and approximately 40 feet of new 36-inch-diameter pipeline off of KMLP's existing 42-inch mainline in Calcasieu Parish, Louisiana;

• construction of one new compressor station consisting of four 16,000 horsepower gas fired turbines, a 42-inch pig launcher and receiver¹, main line valve, auxiliary and control buildings, and appurtenant facilities in Acadia Parish, Louisiana;

¹ A pig is a tool that can be used to clean and dry a pipeline and/or to inspect it for damage or corrosion.

• construction of approximately 6,400 feet of new 36-inch-diameter and 700 feet of 24-inch-diameter header ² pipelines adjacent to the existing KMLP right-of-way in Acadia Parish, Louisiana;

² A pipe that serves as a central connection for two or more smaller pipes.

• modifications at five existing compressor stations in Evangeline and Acadia Parishes, Louisiana to allow bi-directional flow.

The general location of the planned project facilities is shown in Appendix 1.³

³ The appendices referenced in this notice are not being printed in the Federal Register. Copies of appendices were sent to all those receiving this notice in the mail and are available at www.ferc.gov using the link called “eLibrary” or from the Commission's Public Reference Room, 888 First Street NE., Washington, DC 20426, or call (202) 502-8371. For instructions on connecting to eLibrary, refer to the last page of this notice.

Land Requirements for Construction

Construction of the Lake Charles Expansion Project facilities would disturb a total of 55.7 acres of land. Because the proposed pipeline routes cross agricultural lands, KMLP has proposed using a 125-foot-wide construction right-of-way to allow for topsoil segregation. Following construction, KMLP would retain a 50-foot-wide permanent easement, resulting in 21.6 acres being maintained for operation of the Project facilities. The remaining acreage would be restored and revert to former uses.

The EIS Process

The National Environmental Policy Act (NEPA) requires the Commission to take into account the environmental impacts that could result from an action whenever it considers the issuance of a Certificate of Public Convenience and Necessity. NEPA also requires us ⁴ to discover and address concerns the public may have about proposals. This process is referred to as scoping. The main goal of the scoping process is to focus the analysis in the EIS on important environmental issues. By this notice, the Commission requests public comments on the scope of issues to address in the EIS. We will consider all filed comments during the preparation of the EIS.

⁴ “We,” “us,” and “our” refer to the environmental staff of the Commission's Office of Energy Projects.

In the EIS, we will discuss impacts that could occur as a result of the construction and operation of the proposed Projects under these general headings:

• Geology;

• soils;

• water resources and wetlands;

• vegetation and wildlife;

• fisheries and aquatic resources;

• threatened, endangered, and other special-status species;

• land use, recreation, special interest areas, and visual resources;

• socioeconomics;

• cultural resources;

• air quality;

• noise;

• reliability and safety; and

• cumulative environmental impacts.

We will also evaluate possible alternatives to the Lake Charles Expansion Project or portions of the project, and make recommendations on how to lessen or avoid impacts on the various resource areas.

The FERC staff is in the process of preparing an EIS for the Magnolia LNG Project. As mentioned previously, the facilities proposed by KMLP and presented in this Notice will be evaluated in that EIS. Three other agencies are participating as cooperating agencies in the preparation of the EIS: the U.S. Coast Guard, U.S. Department of Energy, and the U.S. Army Corps of Engineers. With this notice, we are asking other agencies with jurisdiction by law and/or special expertise with respect to environmental issues related to the Lake Charles Expansion Project to formally cooperate with us in the preparation of the EIS.⁵ Agencies that would like to request cooperating agency status should follow the instructions for filing comments provided under the Public Participation section of this notice.

⁵ The Council on Environmental Quality regulations addressing cooperating agency responsibilities are at Title 40, Code of Federal Regulations, Part 1501.6.

The EIS will present our independent analysis of the issues. We will publish and distribute the draft EIS for public comment. After the comment period, we will consider all timely comments and revise the document, as necessary, before issuing a final EIS. To ensure we have the opportunity to consider and address your comments, please carefully follow the instructions in the Public Participation section below.

Consultations Under Section 106 of the National Historic Preservation Act

In accordance with the Advisory Council on Historic Preservation's implementing regulations for Section 106 of the National Historic Preservation Act, we are using this notice to initiate consultation with the applicable State Historic Preservation Offices and to solicit their views and those of other government agencies, interested Indian tribes, and the public on the Project's potential effects on historic properties.⁶ We will define the project-specific Area of Potential Effects (APE) in consultation with the SHPOs as the project develops. On natural gas facility projects, the APE at a minimum encompasses all areas subject to ground disturbance (examples include the construction right-of-way, contractor/pipe storage yards, compressor stations, and access roads). Our EIS for this Project will document our findings on the impacts on historic properties and summarize the status of consultations under Section 106.

⁶ The Advisory Council on Historic Preservation's regulations are at Title 36, Code of Federal Regulations, Part 800. Historic properties are defined in those regulations as any prehistoric or historic district, site, building, structure, or object included in or eligible for inclusion in the National Register of Historic Places.

Currently Identified Environmental Issues

We have already identified issues that we think deserve attention based on a preliminary review of the proposed facilities and the environmental information provided by KMLP. This preliminary list of issues may be changed based on your comments and our analysis:

• Impacts on agricultural areas, including impacts on soils;

• impacts on residential areas;

• impacts on wetlands;

• impacts on air quality due to construction and operation;

• impacts related to noise during construction and operation;

• visual and other impacts from construction of aboveground facilities, and;

• cumulative impacts.

Public Participation

You can make a difference by providing us with your specific comments or concerns about the Lake Charles Expansion Project. Your comments should focus on the potential environmental effects, reasonable alternatives, and measures to avoid or lessen environmental impacts. The more specific your comments, the more useful they will be. To ensure that your comments are timely and properly recorded, please send your comments so that the Commission receives them in Washington, DC on or before September 10, 2014.

For your convenience, there are three methods you can use to submit your comments to the Commission. In all instances, please reference the project docket number (CP14-511-000) with your submission. The Commission encourages electronic filing of comments and has expert staff available to assist you at (202) 502-8258 or efiling@ferc.gov.

(1) You can file your comments electronically using the eComment feature located on the Commission's Web site (www.ferc.gov) under the link to Documents and Filings. This is an easy method for interested persons to submit brief, text-only comments on a project;

(2) You can file your comments electronically using the eFiling feature located on the Commission's Web site (www.ferc.gov) under the link to Documents and Filings. With eFiling, you can provide comments in a variety of formats by attaching them as a file with your submission. New eFiling users must first create an account by clicking on “eRegister.” You must select the type of filing you are making. If you are filing a comment on a particular project, please select “Comment on a Filing”; or

(3) You can file a paper copy of your comments by mailing them to the following address: Kimberly D. Bose, Secretary, Federal Energy Regulatory Commission, 888 First Street NE., Room 1A, Washington, DC 20426.

Environmental Mailing List

The environmental mailing list includes federal, state, and local government representatives and agencies; elected officials; environmental and public interest groups; Native American Tribes; other interested parties; and local libraries and newspapers. This list also includes all affected landowners (as defined by the Commission's regulations) who are potential right-of-way grantors, whose property may be used temporarily for Project purposes, or who own homes within certain distances of aboveground facilities, and anyone who submits comments on the Project. We will update the environmental mailing list as the analysis proceeds to ensure that we send the information related to this environmental review to all individuals, organizations, and government entities interested in and/or potentially affected by the proposed Project.

Copies of the completed draft EIS will be sent to the environmental mailing list for public review and comment. If you would prefer to receive a paper copy of the document instead of a CD version or would like to remove your name from the mailing list, please return the attached Information Request (appendix 2).

Becoming an Intervenor

In addition to involvement in the EIS scoping process, you may want to become an “intervenor” which is an official party to the Commission's proceeding. Intervenors play a more formal role in the process and are able to file briefs, appear at hearings, and be heard by the courts if they choose to appeal the Commission's final ruling. An intervenor formally participates in the proceeding by filing a request to intervene. Instructions for becoming an intervenor are in the User's Guide under the “e-filing” link on the Commission's Web site.

Additional Information

Additional information about the Project is available from the Commission's Office of External Affairs, at (866) 208-FERC, or on the FERC Web site (www.ferc.gov) using the eLibrary link. Click on the eLibrary link, click on “General Search” and enter the docket number, excluding the last three digits in the Docket Number field (i.e., CP14-511). Be sure you have selected an appropriate date range. For assistance, please contact FERC Online Support at FercOnlineSupport@ferc.gov or toll free at (866) 208-3676, or for TTY, contact (202) 502-8659. The eLibrary link also provides access to the texts of formal documents issued by the Commission, such as orders, notices, and rulemakings.

In addition, the Commission offers a free service called eSubscription which allows you to keep track of all formal issuances and submittals in specific dockets. This can reduce the amount of time you spend researching proceedings by automatically providing you with notification of these filings, document summaries, and direct links to the documents. Go to www.ferc.gov/docs-filing/esubscription.asp.

Public meetings or site visits will be posted on the Commission's calendar located at www.ferc.gov/EventCalendar/EventsList.aspx along with other related information.

Kimberly D. Bose,
Secretary.

[FR Doc. 2014-19464 Filed 8-15-14; 8:45 am]

BILLING CODE 6717-01-P